DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings.

SUMMARY: The Western Pacific Fishery Management Council (Council) will hold the 48th meeting of its Fishery Data Coordinating Committee (FDCC) to review the progress of data collection improvements, identifying the next steps in data improvements, changes in the FDCC structure, operation, and membership.

DATES: The 48th FDCC meeting will be held on May 9, 2012. For specific times and agendas, see SUPPLEMENTARY INFORMATION.

ADDRESSES: The 48th FDCC meeting will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for the FDCC Meeting

May 9, 2012—8:30 p.m.-5 p.m.

1. Welcome remarks

2. Introductions

3. Approval of agenda

4. Review of the 47th FDCC Action items

5. Status of FY 2012 WPacFIN Operations

A. Priorities and plans

6. Recent actions towards improving data collection: Findings and solutions

7. Archipelagic Plan Team recommendations on data collection and reporting

8. Omnibus proposal for improving the existing fishery data, data collection, and fishery status reporting

9. Next steps on data collection improvement and enhancing FDCC performance

A. Follow up on the commitments expressed in the December workshop

B. Data collection improvement under the WPSAR framework

C. Enhancing FDCC—a proposal for change

10. Status of current budgets for data collection

A. Identification of other sources of funding

11. Other businesses

12. Recommendations

13. Next FDCC meeting schedule

14. Adjourn

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 17, 2012.
Tracey L. Thompson,
Acting Director, Office of Sustainable Fisheries, National Marine Fisheries Service.

[FR Doc. 2012-9603 Filed 4-20-12; 8:45 am]

BILLING CODE 3510-22-P